DEPARTMENT OF COMMERCE

International Trade Administration

[A-570-888]

Notice of Initiation of Antidumping Investigation: Floor-Standing, Metal-Top Ironing Tables and Certain Parts Thereof from the People's Republic of China

AGENCY: Import Administration, International Trade Administration, Department of Commerce.

ACTION: Initiation of Antidumping Investigation

EFFECTIVE DATE: July 25, 2003.

FOR FURTHER INFORMATION CONTACT: Paige Rivas or Sam Zengotitabengoa, AD/CVD Enforcement Office IV, Import Administration, International Trade Administration, U.S. Department of Commerce, 14th Street and Constitution Avenue, NW, Washington, D.C. 20230; telephone: (202) 482-0651 or (202) 482-4195, respectively.

INITIATION OF INVESTIGATION:

The Petition

On June 30, 2003, the Department of Commerce (the Department) received a Petition for the Imposition of Antidumping Duties on Floor-Standing, Metal-Top Ironing Tables and Certain Parts Thereof from the People's Republic of China (the petition), filed in proper form, by Home Products International, Inc. (the petitioner). The Department received information supplementing the petition on July 2, 2003, and July 8, 2003.

In accordance with section 732(b) of the Tariff Act of 1930 (the Act), as amended by the Uruguay Round Agreements Act, the petitioner alleges that imports of floor-standing, metal-top ironing tables and certain parts thereof (ironing tables) from the People's Republic of China (PRC) are being, or are likely to be, sold in the United States at less than fair value (LTFV) within the meaning of section 731 of the Act, and that such imports are materially injuring, or are threatening to materially injure, an industry in the United States.

The Department finds that the petitioner filed this petition on behalf of the domestic industry because it is an interested party as defined in section 771(9)(C) of the Act and has demonstrated sufficient industry support with respect to the antidumping investigation that it is requesting the Department to initiate. See Determination of Industry Support for the Petition section below.

Period of Investigation

The anticipated period of investigation (POI) for this investigation is October 1, 2002, through March 31, 2003.

Scope of Investigation

For purposes of this investigation, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this investigation.

Furthermore, this investigation specifically covers imports of ironing tables, assembled or unassembled, complete or incomplete, and certain parts thereof. For purposes of this investigation, the term “unassembled” ironing table means product requiring the attachment of the leg assembly to the top or the attachment of an included feature such as an iron rest or linen rack. The term “complete” ironing table means product sold as a ready-to-use ensemble consisting of the metal-top table and a pad and cover, with or without additional features, e.g. iron rest or linen rack. The term “incomplete” ironing table means product shipped or sold as a “bare board” i.e., a metal-top table only, without the pad and cover- with or without additional features, e.g. iron rest or linen rack. The major parts or components of ironing tables that are intended to be covered by this investigation under the term “certain parts thereof” consist of the metal top component (with or without assembled supports and slides) and/or the leg components, whether or not attached together as a leg assembly. The investigation covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for the purposes of U.S. Bureau of Customs and Border Protection (Customs), the Department's written description of the scope remains dispositive.

During our review of the petition, we discussed the scope with the petitioner and the commodity specialist at the United States Bureau of Customs and Border Protection to ensure that it accurately reflects the product for which the domestic industry is seeking relief. Moreover, as discussed in the preamble to the Department's regulations (62 FR 27296, 27323), we are setting aside a period for parties to raise issues regarding product coverage. The Department encourages all parties to submit such comments within 20 days of publication of this notice. Comments should be addressed to Import Administration's Central Records Unit (CRU), at Room 1870, U.S. Department of Commerce, 14th Street and Constitution Avenue, NW, Washington, D.C. 20230. The period of scope consultations is intended to provide the Department with ample opportunity to consider all comments and consult with parties prior to the issuance of our preliminary determination.

Determination of Industry Support for the Petition

Section 732(b)(1) of the Act requires that a petition be filed on behalf of the domestic industry. Section 732(c)(4)(A) of the Act provides that a petition meets this requirement if the domestic producers or workers who support the petition account for: (1) at least 25 percent of the total production of the domestic like product; and, (2) more than 50 percent of the production of the domestic like product produced by that portion of the industry expressing support for, or opposition to, the petition. Finally, section 732(c)(4)(D) of the Act provides that, if the petition does not establish support of domestic producers or workers accounting for more than 50 percent of the total production of the domestic like product, the administering agency shall: (i) poll the industry or rely on other information in order to determine if there is support for the petition as required by subparagraph (A), or (ii) determine industry support using any statistically valid sampling method to poll the industry.

Section 771(4)(A) of the Act defines the “industry” as the producers of a domestic like product. Thus, to determine whether the petition has the requisite industry support, the Act directs the Department to look to producers and workers who account for production of the domestic like product. See sections 771(4)(A)(i) and (ii) of the Act. The International Trade Commission (ITC), which is responsible for determining whether “the domestic industry” has been injured, must also determine what constitutes a domestic like product in order to define the industry. See section 771(10) of the Act. While both the Department and the ITC must apply the same statutory definition regarding the domestic like product (section 771(10) of the Act), they do so for different purposes and pursuant to separate and distinct authority. In addition, the Department's determination is subject to limitations of time and information. Although this may result in different definitions of the domestic like product, such differences do not render the decision of either agency contrary to the law.¹

¹ See Algoma Steel Corp. Ltd., v. United States, 688 F. Supp. 639, 642-44 (CIT 1988); High Information Content Flat Panel Displays and Display Glass Therefore from Japan: Final Determination; Rescission of Investigation and Partial Dismissal of Petition, 56 FR 32376, 32380-81 (July 16, 1991).

Section 771(10) of the Act defines the domestic like product as “a product that is like, or in the absence of like, most similar in characteristics and uses with, the article subject to an investigation under this title.” Thus, the reference point from which the domestic like product analysis begins is “the article subject to an investigation,” i.e., the class or kind of merchandise to be investigated, which normally will be the scope as defined in the petition. Moreover, the petitioner does not offer a definition of domestic like product distinct from the scope of the investigation.

Based on our analysis of the information presented by the petitioner, we have determined that there is a single domestic like product, which is defined in the “Scope of Investigation” section of the notice. The Department has no basis on the record to find this definition of the domestic like product to be inaccurate. The Department, therefore, has adopted this domestic like product definition. See Import Administration Antidumping Investigation Checklist, dated July 18, 2003, (Initiation Checklist), at page 2 (public version on file in the CRU of the Department, Room B-099).

The Department has further determined that this petition contains adequate evidence of industry support. As HPI is the only producer of floor-standing metal-top ironing tables in the United States, there is no production data for any other domestic producers of floor-standing metal-top ironing tables. The petitioner provided actual production volume for January through December 2002. We conducted a search of the information reasonably available on the Internet and could find no information that contradicted the petitioner's assertion. Information contained in the petition demonstrates that the domestic producer or workers who support the petition account for over 50 percent of total production of the domestic like product. Therefore, the domestic producers or workers who support the petition account for at least 25 percent of the total production of the domestic like product, and the requirements of section 732(c)(4)(A)(i) of the Act are met. See Initiation Checklist, at pages 3 and 4. Furthermore, because the Department received no opposition to the petition, the domestic producers or workers who support the petition account for more than 50 percent of the production of the domestic like product produced by that portion of the industry expressing support for or opposition to the petition. See Initiation Checklist, at pages 3 and 4. Thus, the requirements of section 732(c)(4)(A)(ii) of the Act are also met.

Accordingly, the Department determines that this petition was filed on behalf of the domestic industry within the meaning of section 732(b)(1) of the Act. See Id.

Export Price and Normal Value

The following are descriptions of the allegations of sales at LTFV upon which our decision to initiate this investigation is based. Based on the information submitted in the petition, adjusted where appropriate, we are initiating this investigation, as discussed below and in the Initiation Checklist.

The Department has analyzed the information in the petition and considers the country-wide import statistics for the anticipated POI and market information used to calculate the estimated margin for the subject country to be sufficient for purposes of initiation. See Initiation Checklist, at page 3. Should the need arise to use any of this information in our preliminary or final determination for purposes of facts available under section 776 of the Act, we may re-examine the information and revise the margin calculation, if appropriate.

Export Price

To calculate export price (EP), the petitioner provided: (1) a direct price quotation of a mesh-top T-leg unit, with pad and cover, from a major Chinese producer and exporter of ironing tables to the United States; and, (2) a bid offer from an unknown competing vendor. The price quotation provided by the petitioner for the subject merchandise was determined to be sufficient for initiation purposes. Since the petitioner was unable to document who the supplier was, we did not consider the bid offer as a basis for EP. Should the need arise to use any of this information as facts available under section 776 of Tariff Act of 1930 (the Act) in our preliminary or final determinations, we may reexamine the information and revise the margin calculations, if appropriate. See Petition, at page 17.

The ironing table model referenced in the price quotation represents the single dominant design that pervades the U.S. market. See Initiation Checklist, at page 6. Given the terms of sale applicable to the price quotation, the petitioner made no adjustments to EP because the reliance upon the sale price offered by the seller reflects a conservative approach.

Normal Value

The petitioner asserted that the PRC is an NME country and no determination to the contrary has yet been made by the Department. In previous investigations, the Department determined that the PRC is an NME. See, e.g., Final Determination on Ferrovanadium from the People's Republic of China, 67 FR 71137 (November 29, 2002); Final Determination on Cold-Rolled Carbon Steel Flat Products from the People's Republic of China, 67 FR 62107 (October 3, 2002). In accordance with section 771(18)(C)(i) of the Act, the presumption of NME status remains in effect until revoked by the Department. The presumption of NME status for the PRC has not been revoked by the Department and, therefore, remains in effect for purposes of the initiation of this investigation. Because the PRC's status as an NME remains in effect, the petitioner determined the dumping margin using a factors of production (FOP) analysis.

For the normal value (NV) calculation, the petitioner based the FOP analysis, with respect to raw materials, labor, and energy, as defined by section 772(c)(3) of the Act, on its knowledge and experience of the ironing board industry and ironing board production process, and, where applicable, on a physical examination of a Chinese mesh-top T-leg ironing table. The petitioner also added to the FOP values an amount for factory overhead, selling, general, and administrative expenses, and profit, as well as an amount for packing.

Pursuant to section 773(c) of the Act, the petitioner asserted that India is the most appropriate surrogate country for the PRC, claiming that India is: (1) at a level of development comparable to the PRC in terms of per capita gross national income (GNI), which is the current World Bank term for what was previously termed “Gross National Product” (GNP); and, (2) a significant producer of comparable merchandise. The petitioner further notes that India has often been the primary surrogate country for PRC cases. See, e.g., Notice of Preliminary Determination of Sales at Less Than Fair Value: Saccharin From the People's Republic of China, 67 FR 79049, 79054 (December 27, 2002). Furthermore, the petitioner has been able to obtain all of the necessary data to value the factors of ironing table production in India. Based on the information provided by the petitioner, we believe that the petitioner's use of India as a surrogate country is appropriate for purposes of initiating this investigation. See Initiation Checklist, at page 7.

The petitioner identified and quantified the material inputs (e.g., cold-rolled flat-rolled steel, washers, cloth, etc.) based on its knowledge and experience, as well as its physical examination of a Chinese mesh-top T-leg ironing table. The petitioner valued these material inputs based on Indian import statistics for the period of July 2002 through December 2002, as published by the World Trade Atlas subscription service, which, in turn, obtains data from the Indian Ministry of Commerce and Industry, Director General, Commercial Intelligence & Statistics. Because some of these values are from a period preceding the POI, the petitioner adjusted for inflation the values to reflect the POI levels, where appropriate, using the Indian Wholesale Price Index (WPI) (compiled by the Indian ministry of Commerce and Industry, Office of the Economic Advisor). See Initiation Checklist, at page 6.

Based on its knowledge of Chinese ironing-table producing equipment, the petitioner was able to quantify the amount of electricity consumed. The petitioner valued electricity based on the Indian publication Electricity for Industry, for the fourth quarter 2001, as maintained by the International Energy Agency on its website (http://www.iea.org/statist/keyworld2002/key2002/ p_0505.htm). That value was then adjusted for inflation on the basis of the Indian monthly WPI for Electricity for Industry. See Initiation Checklist, at page 7.

To determine the quantity of natural gas used in the heat curing finishing process, the petitioner relied on its own knowledge and experience. To value natural gas, the petitioner used a value derived from the Indian company Gail (India) Ltd., for May through September 2002. See Initiation Checklist, at page 7.

The petitioner valued labor by applying the Department's regression-based wage rate for the PRC, in accordance with section 351.408(c)(3) of the Department's regulations, to the corresponding yield rates for each process.

For manufacturing overhead, selling, general, and administrative expenses, and profit, the petitioner relied upon the publicly available financial data of Godrej & Boyce Manufacturing Company Ltd. (Godrej). The Department recently relied upon this data in another antidumping investigation. See Notice of Final Determination of Sales at Less Than Fair Value: Folding Metal Tables and Chairs from the People's Republic of China, 67 FR 20090 (April 24, 2002). Godrej is an Indian producer of metal furniture, including folding metal tables that is sufficiently similar to metal-top ironing tables in terms of materials and production processes to be considered comparable merchandise. See Initiation Checklist, at page 8.

Based on the information provided by the petitioner, we believe that the surrogate values represent information reasonably available to the petitioner and are acceptable for purposes of initiating this investigation. See Initiation Checklist, at page 8.

Fair Value Comparisons

Based on the data provided by the petitioner, there is reason to believe that imports of ironing tables from the PRC are being, or are likely to be, sold at LTFV.

Based on a comparison of EP to NV, the petitioner calculated an estimated dumping margin of 59.32 percent. A summary of the margin calculation is contained in the Initiation Checklist at Attachment III.

Allegations and Evidence of Material Injury and Causation

The petitioner alleges that the U.S. industry producing the domestic like product is being materially injured, and is threatened with material injury, by reason of the imports of the subject merchandise sold at less than NV. The allegations of injury and causation are supported by relevant evidence including the petitioner's import data, lost sales data, and pricing information. The Department assessed the allegations and supporting evidence regarding material injury and causation and determined that these allegations are supported by accurate and adequate evidence and meet the statutory requirements for initiation. See Initiation Checklist, at page 4 and Attachment II.

Initiation of Antidumping Investigation

Based on our examination of the petition, we have found that the petition meets the requirements of section 732 of the Act. Therefore, we are initiating an antidumping investigation to determine whether imports of ironing tables from the PRC are being, or are likely to be, sold in the United States at LTFV. Should the need arise to use any of this information as facts available under section 776 of the Act in our preliminary or final determinations, we may reexamine the information and revise the margin calculations, if appropriate. Unless this deadline is extended, we will make our preliminary determination no later than 140 days after the date of this initiation.

Distribution of Copies of the Petition

In accordance with section 732(b)(3)(A) of the Act, copies of the public version of the petition have been provided to representatives of the government of the PRC.

International Trade Commission Notification

We have notified the ITC of our initiation, as required by section 732(d) of the Act.

Preliminary Determination by the ITC

The ITC will determine by August 14, 2003, whether there is a reasonable indication that an industry in the United States is materially injured, or is threatened with material injury, by reason of imports of ironing tables from the PRC. A negative ITC determination will result in the investigation being terminated; otherwise, this investigation will proceed according to statutory and regulatory time limits.

This notice is issued and published in accordance with section 777(i) of the Act.

Dated: July 21, 2003.
Joseph A. Spetrini,
Acting Assistant Secretary

[FR Doc. 03-19025 Filed 7-24-03; 8:45 am]

BILLING CODE 3510-DS-S